LIBRARY OF CONGRESS

U.S. Copyright Office

37 CFR Parts 201 and 202

[Docket No. 2013-7]

Communication with the U.S. Copyright Office: Revised Addresses

AGENCY: U.S. Copyright Office, Library of Congress.

ACTION: Final rule.

SUMMARY: The U.S. Copyright Office (or “Office”) is amending its regulations to revise the mailing addresses for filing claims and sending other correspondence and documents to the Office. The revised addresses direct such document deliveries to the appropriate location in the Office in a more timely and efficient manner.

DATES: This rule is effective July 18, 2013.

FOR FURTHER INFORMATION CONTACT: Robert Kasunic, Associate Register of Registration Policy and Practices, U.S. Copyright Office, P.O. Box 70400, Washington, DC 20024-0400. Telephone (202) 707-8380; fax (202) 707-8366.

SUPPLEMENTARY INFORMATION: The U.S. Copyright Office is amending its regulations regarding communication with the Office. It is updating the mailing addresses for general inquiries made to a particular division or section of the Office, as well as mail communications concerning particular situations. The revisions provide the appropriate codes to direct mail to the correct location by general subject matter. These revisions also list the limited purpose addresses that are used in particular circumstances or for particular services. In the case of disruptions in mail services, the Office directs the public to the U.S. Copyright Office Web site for additional information.

Persons sending communications by mail should note that due to off-site screening of all mail delivered to federal offices on Capitol Hill, receipt of mail at the U.S. Copyright Office can be delayed by several days. Moreover, deliveries by couriers must be made to an off-site facility. For more information, go to http://www.copyright.gov/mail.html.

List of Subjects

37 CFR Part 201

Copyright: General provisions.

37 CFR Part 202

Copyright, Registration.

Final Regulation

In consideration of the foregoing, under the authority of 17 U.S.C. 702, the U.S. Copyright Office amends 37 CFR chapter II as follows:

CHAPTER II—U.S. COPYRIGHT OFFICE, LIBRARY OF CONGRESS

1. The heading of chapter II is revised to read as set forth above.

PART 201—GENERAL PROVISIONS

2. The authority citation for part 201 continues to read as follows:

Authority: 17 U.S.C. 702.

3. Revise § 201.1 to read as follows:

§ 201.1 Communication with the U.S. Copyright Office.

(a) General purpose addresses. Members of the public must use the correct address in order to facilitate timely receipt by the U.S. Copyright Office division or section to which an inquiry should be directed. The address set forth in paragraph (b) may be used for general inquiries made to a particular division or section of the U.S. Copyright Office. Addresses for special, limited purposes are provided below in paragraph (c) of this section. Please note that the Library of Congress no longer accepts on-site deliveries from commercial and private couriers.¹ For additional address information, including information on courier delivery, mail delays, or disruptions, please visit the “Contact us” section on the Office's Web site (http://www.copyright.gov). General questions may also be directed to the U.S. Copyright Office Web site submission form at: http://www.copyright.gov/help/general-form.html.

¹ See 69 FR 5371 (Feb. 4, 2004) and 68 FR 70039 (Dec. 16, 2003).

(b) General purpose address. (1) Mail and other communications that do not come under the areas listed in paragraph (b)(2) of this section shall be addressed to the Library of Congress, U.S. Copyright Office, 101 Independence Avenue SE., Washington, DC 20559-6000.

(2) Codes to facilitate the routing of mail. To assure that postal mail is routed correctly within the U.S. Copyright Office, applicants should indicate, by the appropriate code, the general subject matter of the correspondence. Such correspondence should be addressed to the Office in the following manner: Library of Congress, U.S. Copyright Office—(Insert appropriate code listed below), 101 Independence Avenue SE., Washington, DC 20559.

Type of submission | Code
Registration of Literary Works | TX
Registration of Serials | SE
Registration of Visual Arts Works | VA
Registration of Works of the Performing Arts, except Motion Pictures | PA
Registration of Sound Recordings | SR
Registration of Motion pictures | MP
Registration of Renewal claims | RE
Document Recordations | DOC
Registration of Mask Works | MW
Registration of Vessel Hull Designs | VH
Copyright Acquisitions | CAD
Deposit Demands | AD
Licensing Division | LD
Notice to Libraries and Archives | NLA
Publications Section | PUB

(c) Limited purpose addresses. The following addresses may be used only in the special, limited circumstances given for a particular U.S. Copyright Office service:

(1) Time Sensitive Requests. Notices related to the filing of copyright infringement suits and submitted pursuant to 17 U.S.C. 411(a) and 17 U.S.C. 508; requests pursuant to 17 U.S.C. 411(b)(2) from district courts to the Register of Copyrights, all other correspondence to the Office of the General Counsel and the Office of Policy and International Affairs, and requests for expedited service from the Records Research and Certification Section of the Information and Records Division to meet the needs of pending or prospective litigation, customs matters, or contract or publishing deadlines should be addressed to: U.S. Copyright Office, P.O. Box 70400, Washington, DC 20024-0400. Freedom of Information Act (FOIA) requests and FOIA appeals must also be mailed to: P.O. Box 70400, Washington, DC 20024-0400, but clearly labeled “Freedom of Information Act Request” or “Freedom of Information Act Appeal” as appropriate.

(2) Notices of Termination. Notices of Termination of transfers and licenses under Sections 203 and 304 of the Copyright Act should be addressed to: U.S. Copyright Office, Notices of Termination, P.O. Box 71537, Washington, DC 20024-1537.

(3) Online Service Providers. The designation of an agent to receive notification of claims of infringement for online service providers should be addressed to: U.S. Copyright Office, Designated Agents, P.O. Box 71537, Washington, DC 20024-1537.

(4) Reconsiderations of Refusals To Register and Requests for Cancellation. First and second requests for reconsideration of refusal to register a copyright, mask work, or vessel hull claim, and requests to cancel registered works should be addressed to: U.S. Copyright Office, RAC Division, P.O. Box 71380, Washington, DC 20024-1380.

(5) Searches and Copies of Records or Deposits. Requests for searches of registrations and recordations in the completed catalogs, indexes, and/or other records of the U.S. Copyright Office as well as requests for copies of records or deposits for use in litigation or other authorized purposes should be addressed to: U.S. Copyright Office, Records Research and Certification, P.O. Box 70400, Washington, DC 20559-0400.

(6) Inquiries to Licensing Division. Notices related to statutory licenses under 17 U.S.C. 112, 114, and 115 should be addressed to: U.S. Copyright Office, P.O. Box 70977, Washington, DC 20024-0400. Statements of account related to statutory licenses under 17 U.S.C. 119 and chapter 10 should be addressed to: U.S. Copyright Office, SOA, P.O. Box 70400, Washington, DC 20024-0400. Filings or inquiries related to Section 111 licenses should be sent to Library of Congress, U.S. Copyright Office, Attn: 111 Licenses, 101 Independence Avenue SE., Washington, DC 20559.

(7) Copyright Acquisitions. Deposit copies submitted under Section 407 of the Copyright Act should be addressed to: Library of Congress, U.S. Copyright Office, Attn: 407 Deposits, 101 Independence Avenue SE., Washington, DC 20559. Serial publishers submitting their required complimentary subscriptions to comply with group registration requirements should address these subscriptions to the Library of Congress, Group Periodicals Registration, 101 Independence Ave. SE., Washington, DC 20540-4161.

4. Amend § 201.2 by revising paragraph (b)(5) to read as follows:

§ 201.2 Information given by the U.S. Copyright Office.

* * * * *

(b) * * *

(5) In exceptional circumstances, the Register of Copyrights may allow inspection of pending applications and open correspondence files by someone other than the copyright claimant, upon submission of a written request which is deemed by the Register to show good cause for such access and establishes that the person making the request is one properly and directly concerned. The written request should be mailed to the address specified in § 201.1(c)(5).

* * * * *

5. Amend § 201.5 by revising paragraph (c)(2) to read as follows:

§ 201.5 Corrections and amplifications of copyright registrations; applications for supplementary registration.

* * * * *

(c) * * *

(2) The form prescribed by the U.S. Copyright Office for the foregoing purposes is designated “Application for Supplementary Copyright Registration (Form CA).” Copies of the form are available on the U.S. Copyright Office Web site or for free upon request at the address specified in § 201.1.

* * * * *

6. Amend § 201.8 by revising paragraph (g) to read as follows:

§ 201.8 Disruption of postal or other transportation or communication services.

* * * * *

(g) Requests made pursuant to paragraph (b) of this section shall be mailed to one of the addresses specified in § 201.1.

7. Amend § 201.10 by revising paragraph (f)(7) to read as follows:

§ 201.10 Notices of termination of transfers and licenses.

* * * * *

(f) * * *

(7) Notices of termination should be submitted to the address specified in § 201.1.

* * * * *

8. Amend § 201.11 by revising paragraph (d)(1) to read as follows:

§ 201.11 Satellite carrier statements of account covering statutory licenses for secondary transmissions.

* * * * *

(d) Forms. (1) Each Statement of Account shall be furnished on an appropriate form prescribed by the U.S. Copyright Office, and shall contain the information required by that form and its accompanying instructions. Computation of the copyright royalty fee shall be in accordance with the procedures set forth in the forms. Copies of Statement of Account forms are available free upon request. Requests may be mailed to the address specified in § 201.1.

* * * * *

9. Amend § 201.17 by revising paragraph (d)(1) to read as follows:

§ 201.17 Statements of Account covering compulsory licenses for secondary transmissions by cable systems.

* * * * *

(d) Forms. (1) Each Statement of Account shall be furnished on an appropriate form prescribed by the U.S. Copyright Office, and shall contain the information required by that form and its accompanying instructions. Computation of distant signal equivalents and the copyright royalty fee shall be in accordance with the procedures set forth in the forms. Copies of Statement of Account forms are available free upon request. Requests may be mailed to the address specified in § 201.1.

* * * * *

10. Amend § 201.27 by revising paragraph (c) to read as follows:

§ 201.27 Initial notice of distribution of digital audio recording devices or media.

* * * * *

(c) Forms. An Initial Notice form may be obtained from the U.S. Copyright Office free of charge by contacting the address specified in § 201.1.

* * * * *

11. Amend § 201.29 by revising paragraph (e)(3) to read as follows:

§ 201.29 Access to, and confidentiality of, Statements of Account, Verification Auditor's Reports, and other verification information filed in the U.S. Copyright Office for digital audio recording devices or media.

* * * * *

(e) * * *

(3) DART Access Forms may be requested from, and upon completion returned to the address specified in § 201.1.

* * * * *

12. Amend § 201.33 by revising paragraphs (d)(1) and (e)(2)(ii) to read as follows:

§ 201.33 Procedures for filing Notices of Intent to Enforce a restored copyright under the Uruguay Round Agreements Act.

* * * * *

(d) Requirements for Notice of Intent to Enforce a Copyright Restored under the Uruguay Round Agreements Act. (1) Notices of Intent to Enforce should be mailed to the address specified in § 201.1.

* * * * *

(e) * * *

(2) * * *

(ii) U.S. Copyright Office Deposit Account. The U.S. Copyright Office maintains a system of Deposit Accounts for the convenience of those who frequently use its services. The system allows an individual or firm to establish a Deposit Account in the U.S. Copyright Office and to make advance deposits into that account. Deposit Account holders can charge copyright fees against the balance in their accounts instead of sending separate remittances with each request for service. For information on Deposit Accounts, see Circular 5 on the U.S. Copyright Office's Web site, or request a copy at the address specified in § 201.1.

* * * * *

13. Amend § 201.34 by revising paragraph (d)(2) to read as follows:

§ 201.34 Procedures for filing Correction Notices of Intent to Enforce a Copyright Restored under the Uruguay Round Agreements Act.

* * * * *

(d) * * *

(2) Correction Notices of Intent to Enforce should be addressed to Attn: URAA/GATT, NIE and Registrations and mailed to the address specified in § 201.1.

* * * * *

14. Amend § 201.38 by revising the first sentence of paragraph (e) to read as follows:

§ 201.38 Designation of agent to receive notification of claimed infringement.

* * * * *

(e) Filing. A service provider may file the Interim Designation of Agent to Receive Notification of Claimed Infringement at the address specified in § 201.1. * * *

* * * * *

15. Amend § 201.39 by revising paragraphs (g)(1) and (g)(3)(ii) to read as follows:

§ 201.39 Notice to Libraries and Archives of Normal Commercial Exploitation or Availability at Reasonable Price.

* * * * *

(g) Filing—(1) Method of filing. The Notice to Libraries and Archives of Normal Commercial Exploitation or Availability at Reasonable Price should be addressed to NLA, at the address specified in § 201.1.

* * * * *

(3) * * *

(ii) U.S. Copyright Office Deposit Account. The U.S. Copyright Office maintains a system of Deposit Accounts for the convenience of those who frequently use its services. The system allows an individual or firm to establish a Deposit Account in the U.S. Copyright Office and to make advance deposits into that account. Deposit Account holders can charge copyright fees against the balance in their accounts instead of sending separate remittances with each request for service. For information on Deposit Accounts, see Circular 5 on the U.S. Copyright Office's Web site, or request a copy at the address specified in § 201.1.

* * * * *

PART 202—PREREGISTRATION AND REGISTRATION OF CLAIMS TO COPYRIGHT

16. The authority citation for part 202 continues to read as follows:

Authority: 17 U.S.C. 408, 702.

17. Amend § 202.3 by revising paragraphs (b)(6)(ii) and (b)(6)(iii) to read as follows:

§ 202.3 Registration of copyright.

* * * * *

(b) * * *

(6) * * *

(ii) To be eligible for group registration of serials, publishers must submit a letter affirming that two complimentary subscriptions to the particular serial have been entered for the Library of Congress. The letter should be mailed to the address specified in § 201.1 of this chapter.

(iii) The complimentary subscription copies must be mailed to the address specified in § 201.1 of this chapter.

* * * * *

18. Amend § 202.5 by revising paragraph (d)(1) to read as follows:

§ 202.5 Reconsideration Procedure for Refusals to Register.

* * * * *

(d) Submission of reconsiderations. (1) All submissions for reconsideration should be mailed to the address specified in § 201.1 of this chapter.

* * * * *

19. Amend § 202.12 by revising paragraphs (c)(1) and (c)(3)(ii)(B) to read as follows:

§ 202.12 Restored copyrights.

* * * * *

(c) Registration—(1) General. Application, deposit, and filing fee for registration of a claim in a restored work under Section 104A, as amended, may be submitted to the U.S. Copyright Office on or after January 1, 1996. The submission may be a completely electronic submission, with all required elements transmitted to the Office in electronic form; or, the submission may be partially electronic with the application form and fee submitted electronically and the deposit materials sent in physically tangible format(s). If all elements are submitted in physically tangible form, i.e., a completed, printed application form, physically tangible deposit copies/materials, and the appropriate filing fee in check, money order, or deposit account charge, all elements must be placed in the same package and sent to the address specified in § 201.1 of this chapter.

* * * * *

(3) * * *

(ii) * * *

(B) U.S. Copyright Office Deposit Account. The U.S. Copyright Office maintains a system of Deposit Accounts for the convenience of those who frequently use its services. The system allows an individual or firm to establish a Deposit Account in the U.S. Copyright Office and to make advance deposits into that account. Deposit Account holders can charge copyright fees against the balance in their accounts instead of sending separate remittances with each request for service. For information on Deposit Accounts, visit the U.S. Copyright Office Web site or write to the address specified in § 201.1 of this chapter and request a copy of Circular 5.

* * * * *

20. Amend § 202.16 by revising paragraph (c)(11) to read as follows:

§ 202.16 Preregistration of copyrights.

* * * * *

(c) * * *

(11) Certification of preregistation. A certified copy of the official notification may be obtained in physical form from the Records Research and Certification Section of the Information and Records Division at the address specified in § 201.1 of this chapter.

* * * * *

21. Amend § 202.17 by revising paragraph (g)(1) to read as follows:

§ 202.17 Renewals.

* * * * *

(g) Application for renewal registration for a work registered in its original 28-year term. (1) Each application for renewal registration shall be submitted on Form RE. All forms are available free of charge via the Internet by accessing the U.S. Copyright Office homepage at http://www.copyright.gov. Copies of Form RE are also available free upon Request. Requests should be mailed to the address specified in § 201.1 of this chapter.

* * * * *

Dated: July 11, 2013.
Maria A. Pallante,
Register of Copyrights.
Approved by:
James H. Billington,
The Librarian of Congress.

[FR Doc. 2013-17163 Filed 7-17-13; 8:45 am]

BILLING CODE 1410-30-P